DEPARTMENT OF AGRICULTURE

Farm Service Agency

Commodity Credit Corporation

Request for Extension and Revision of a Currently Approved Information Collection; Debt Settlement Policies and Procedures

AGENCY: Farm Service Agency and the Commodity Credit Corporation, USDA.

ACTION: Notice and request for comments.

SUMMARY: In accordance with the Paperwork Reduction Act of 1995, this notice announces the intention of the Farm Service Agency (FSA) and the Commodity Credit Corporation (CCC) to request renewal of the information collection currently approved and used in support of the FSA and CCC Debt Settlement Policies and Procedures program. Provisions in the Federal Agriculture Improvement and Reform Act of 1996 and in the Debt Collection Improvement Act of 1996 have resulted in a decrease in burden hours for information collection under the FSA and CCC Debt Settlement Policies and Procedures program.

DATES: Comments on this notice must be received on or before November 18, 2005 to be assured consideration.

FOR FURTHER INFORMATION CONTACT: Thomas F. Harris II, Claims Program Specialist, Financial Management Division, Farm Service Agency, USDA, STOP 0581, Washington, DC 20250-0581; telephone (703) 305-1439.

SUPPLEMENTARY INFORMATION: Title: Debt Settlement Policies and Procedures.

OMB Control Number: 0560-0146.

Expiration Date of Approval: March 31, 2006.

Type of Request: Extension and Revision of a Currently Approved Information Collection.

Abstract: The information collected under the Office of Management and Budget (OMB) Number 0560-0146, as identified above, is needed to enable FSA and CCC to effectively administer the regulations at 7 CFR 792 (FSA) and 7 CFR 1403 (CCC) relating to debt settlement policies and procedures and to the identification of and settlement of outstanding claims. Collection of outstanding debts owed to FSA or to CCC can be effected by installment payments if a debtor furnishes satisfactory evidence of inability to pay a claim in full, and if the debtor specifically requests for an installment agreement. Part of the requirement is that the debtors furnish this request in writing and with a financial statement or other information that would disclose a debtor's assets and liabilities. This information is required in order to evaluate any proposed plan. Such documentation requests furnished by the debtor are also used in the other collection tools employed by both FSA and CCC in managing debt settlement policies and procedures. If an installment agreement is approved, then a Promissory Note (CCC-279), or an approved alternative promissory note format, must be executed between the debtor and the FSA/CCC representative(s). During the past 2 years, over $10,687,000 in debt collection was facilitated by the use of this requested information and the establishment of 160 Promissory Notes between Debtors and FSA and CCC. Of that amount, $4,392,516 has been collected by 08/01/2005, leaving approximately $6,294,629 outstanding. Total active Note amount for all years is presently $15,922,583.75, with a total outstanding amount of $8,638,168.19.

The Debt Collection Improvement Act of 1996 requires the head of an agency to take all appropriate steps to collect delinquent debts before discharging such debts. These steps require the employment of these information collection forms and formats which have been successfully used for the past several years and which have become familiar tools for both the agency employees and for the producer. Thus, forms and formats already exist and are in use. The need to develop and introduce new forms and formats into the marketplace would add additional burdens and costs to both the producer and to the agency in the handling of the claim settlement and collection processes and would create additional burdens not called for under the Debt Collection Improvement Act of 1996.

Estimate of burden: Public reporting burden for this information collection is estimated to average 60 minutes per response.

Respondents: Producers participating in FSA and CCC programs.

Estimated number of Annual Respondents: 100.

Estimated number of Responses per Respondent: 1.

Estimated Total Annual Burden on Respondents: 100 hours.

Topics for comment include but are not limited to the following: (a) Whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology. Comments should be sent to the Desk Officer for Agriculture, Office of Information and Regulatory Affairs, Office of Management and Budget, Washington, DC 20503, and to Thomas F. Harris II, Claims Program Specialist, Financial Management Division, Farm Service Agency, USDA, STOP 0581, 1400 Independence Ave., SW., Washington, DC 20250-0581; telephone (703) 305-1439. Copies of the information collection may be obtained from Thomas F. Harris II at the above address.

All responses to this notice will be summarized and included in the request for OMB approval. All comments will also become a matter of public record.

Signed at Washington, DC, on September 7, 2005.
James R. Little,
Administrator, Farm Service Agency and Executive Vice President, Commodity Credit Corporation.

[FR Doc. 05-18493 Filed 9-16-05; 8:45 am]

BILLING CODE 3410-05-P